ENVIRONMENTAL PROTECTION AGENCY

40 CFR Part 52

[Region II Docket No. NJ58-254, FRL-7493-6]

Approval and Promulgation of Implementation Plans; New Jersey; Revised Motor Vehicle Emissions Inventories for 1996, 2005, and 2007 and Motor Vehicle Emissions Budgets for 2005 and 2007 Using MOBILE6

AGENCY: Environmental Protection Agency (EPA).

ACTION: Proposed rule.

SUMMARY: EPA is proposing to approve a revision to the New Jersey State Implementation Plan (SIP) for the attainment and maintenance of the 1-hour national ambient air quality standard (NAAQS) for ozone. Specifically, EPA is proposing approval of New Jersey's: revised 1996, 2005, and 2007 motor vehicle emission inventories and 2005 and 2007 motor vehicle emissions budgets recalculated using MOBILE6; modified date for submittal of the State's mid-course review; and updated general conformity emissions budgets for McGuire Air Force Base. The intended effect of this action is to approve a SIP revision that will help the State continue to plan for attainment of the 1-hour NAAQS for ozone in the New York-Northern New Jersey-Long Island nonattainment area (NAA) and the Philadelphia-Wilmington-Trenton NAA.

DATES: Comments must be received on or before June 4, 2003. Public comments on this action are requested and will be considered before taking final action.

ADDRESSES: All comments should be addressed to Raymond Werner, Chief, Air Programs Branch, Environmental Protection Agency, 290 Broadway, 25th Floor, New York, New York 10007-1866.

Copies of the documents relevant to this action are available for public inspection during normal business hours at the following locations: Environmental Protection Agency, Region 2 Office, Air Programs Branch, 290 Broadway, 25th Floor, New York, New York 10007-1866, and New Jersey Department of Environmental Protection, Bureau of Air Quality Planning, 401 East State Street, CN027, Trenton, New Jersey 08625.

FOR FURTHER INFORMATION CONTACT: Kenneth M. Champagne, Air Programs Branch, Environmental Protection Agency, 290 Broadway, 25th Floor, New York, New York 10007-1866, (212) 637-4249.

SUPPLEMENTARY INFORMATION: This notice is being proposed under a procedure called parallel processing. Under parallel processing, EPA proposes action on a state submission before it has been formally adopted and submitted to EPA, and will take final action on its proposal if the final submission is substantially unchanged from the submission on which the proposal is based, or if significant changes in the final submission are anticipated and adequately described in EPA's proposal as a basis for EPA's proposed action.

New Jersey held a public hearing on its proposed SIP revision on March 14, 2003. If New Jersey's proposed SIP revision is substantially changed, EPA will evaluate those changes and may publish another notice of proposed rulemaking. If no substantial changes are made, EPA will take final action on the State's plan consistent with this proposal and any submitted comments. Before EPA can approve this SIP revision, New Jersey must adopt the SIP revision and submit it formally to EPA for incorporation into the SIP.

Table of Contents

1. Background

2. What is MOBILE6?

3. What is the purpose and content of New Jersey's submittal?

4. What are the revised MOBILE6 inventories?

5. Are the revised MOBILE6 inventories consistent with New Jersey's 1-Hour Attainment Demonstration?

6. Are New Jersey's motor vehicle emissions budgets approvable?

7. When will New Jersey submit its mid-course review?

8. Summary of Conclusions and Proposed Action

9. Statutory and Executive Order Reviews

1. Background

In November of 1999, EPA issued two memoranda ¹ to articulate its policy regarding states that incorporated MOBILE5-based interim Tier 2 standard ² benefits into their SIPs and motor vehicle emissions budgets (“budgets”). Although these memoranda primarily targeted certain serious and severe ozone NAAs, EPA has implemented this policy in all other areas that have made use of federal Tier 2 benefits in air quality plans from EPA's April 2000 MOBILE5 guidance, “MOBILE5 Information Sheet #8: Tier 2 Benefits Using MOBILE5.” All states whose attainment demonstrations or maintenance plans include interim MOBILE5-based estimates of the Tier 2 standards were required to make a commitment to revise and resubmit their budgets within either 1 or 2 years of the final release of MOBILE6 in order to gain SIP approval.

¹ Memoranda, “Guidance on Motor Vehicle Emissions Budgets in 1-Hour Ozone Attainment Demonstrations,” issued November 3, 1999, and “1-Hour Ozone Attainment Demonstrations and Tier2/Sulfur Rulemaking,” issued November 8, 1999. Copies of these memoranda can be found on EPA's Web site at http://www.epa.gov/otaq/transp/traqconf.htm.

² The final rule on Tier 2 Motor Vehicle Emissions Standards and Gasoline Sulfur Control Requirements (“Tier 2 standards”) for passenger cars, light trucks, and larger passenger vehicles was published on February 10, 2000 (65 FR 6698).

On April 26, 2000, New Jersey submitted a revision to the 1-hr Ozone Attainment Demonstration SIP for the New Jersey portions of the two severe ozone NAAs—the New York-Northern New Jersey-Long Island Area and the Philadelphia-Wilmington-Trenton Area. For purposes of this action, these areas will be referred to as, respectively, the Northern New Jersey NAA and the Trenton NAA. This SIP revision included, among other things, revised budgets using interim MOBILE5-based estimates of the Tier 2 standards and an enforceable commitment to revise the attainment demonstration using the MOBILE6 model, including budgets, within one year of the release of the model. Additional information on EPA's final approval of New Jersey's April 26, 2000 submittal can be found in the February 4, 2002 Federal Register (67 FR 5152).

EPA officially released the MOBILE6 motor vehicle emissions factor model on January 29, 2002 (67 FR 4254). Thus, the effective date of that Federal Register notice constituted the start of the 1 year time period for which New Jersey was required to revise its 1-Hour Ozone Attainment Demonstration SIP using the MOBILE6 model. New Jersey was required to submit this SIP revision to EPA by January 29, 2003.

2. What Is MOBILE6?

MOBILE is an EPA emissions factor model for estimating pollution from on-road motor vehicles in states outside of California. MOBILE calculates emissions of volatile organic compounds (VOCs), nitrogen oxides (NOX) and carbon monoxide (CO) from passenger cars, motorcycles, buses, and light-duty and heavy-duty trucks. The model accounts for the emission impacts of factors such as changes in vehicle emission standards, changes in vehicle populations and activity, and variation in local conditions such as temperature, humidity, fuel quality, and air quality programs.

MOBILE is used to calculate current and future inventories of motor vehicle emissions at the national and local level. These inventories are used to make decisions about air pollution policies and programs at the local, state and national level. Inventories based on MOBILE are also used to meet the federal Clean Air Act's SIP and transportation conformity requirements.

MOBILE6 is the first major update of the MOBILE model since 1993. The MOBILE model was first developed in 1978. It has been updated many times to reflect changes in the vehicle fleet and fuels, to incorporate EPA's growing understanding of vehicle emissions, and to cover new emissions regulations and modeling needs. Although some minor updates were made in 1996 with the release of MOBILE5b, MOBILE6 is the first major revision to MOBILE since MOBILE5a was released in 1993.

3. What Is the Purpose and Content of New Jersey's Submittal?

To address its enforceable commitment made in the April 26, 2000 Attainment Demonstration SIP revision, the State submitted a proposed SIP revision on January 31, 2003 (hereinafter referred to as the January 31, 2003 submittal) which revises the 1996, 2005, and 2007 motor vehicle emissions inventories and the 2005 and 2007 motor vehicle emissions budgets using the MOBILE6 model. The January 31, 2003 submittal demonstrates that the new levels of motor vehicle emissions calculated using MOBILE6 continue to support achievement of the rate of progress requirements and projected attainment of the 1-hour ozone NAAQS for the Northern New Jersey NAA and Trenton NAA.

Also included as a part of the January 31, 2003 submittal, New Jersey proposes to modify the planned date for submitting its mid-course review to December 31, 2004 and to update the general conformity emissions budgets for McGuire Air Force Base.

4. What Are the Revised MOBILE6 Inventories?

Table 1 below summarizes the revised motor vehicle emissions inventories statewide and by nonattainment area in tons per summer day (tpd). These revised inventories were developed using the latest planning assumptions, including 1999 vehicle registration data, vehicle miles traveled (VMT), speeds, fleet mix, and SIP control measures. EPA is proposing to approve these revised 1996, 2005 and 2007 motor vehicle emissions inventories. While the primary focus of this proposed rulemaking is the Northern New Jersey and Trenton NAAs, New Jersey has also revised the motor vehicle emissions inventories for the Atlantic City ozone NAA and the New Jersey portion of the Allentown-Bethlehem-Easton ozone NAA due to their inclusion in the overall motor vehicle emissions budgets. For the Atlantic City and Allentown NAAs, the most recent three years of data continue to demonstrate attainment of the 1-hour ozone standard. However, EPA has not yet received redesignation requests for these areas.

Table 1.—New Jersey's Revised Motor Vehicle Emissions Inventories
NAA area | 1996: VOC (tpd) | 1996: NOX (tpd) | 2005: VOC (tpd) | 2005: NOX (tpd) | 2007: VOC (tpd) | 2007: NOX (tpd)
Atlantic City | 24.21 | 29.96 | 14.63 | 22.07 | ¹ | ¹
Northern New Jersey | 320.22 | 356.46 | 156.37 | 237.17 | 134.00 | 186.93
Trenton | 102.69 | 130.47 | 50.48 | 77.72 | ¹ | ¹
Allentown | 9.29 | 16.79 | 5.59 | 12.89 | 4.77 | 10.25
State Total | 456.42 | 533.67 | 227.08 | 349.85 | ¹ | ¹
¹ Not applicable.

5. Are the Revised MOBILE6 Inventories Consistent With New Jersey's 1-Hour Attainment Demonstration?

EPA has articulated its policy regarding the use of MOBILE6 in SIP development in its “Policy Guidance on the Use of MOBILE6 for SIP Development and Transportation Conformity” ³ and “Clarification of Policy Guidance for MOBILE6 in Mid-course Review Areas.” ⁴ Consistent with this policy guidance, New Jersey included in the January 31, 2003 submittal a relative reduction comparison to show that its 1-Hour Ozone Attainment Demonstration SIP continues to demonstrate attainment using revised MOBILE6 inventories for the Northern New Jersey NAA and the Trenton NAA. New Jersey's attainment demonstration used photochemical grid modeling supplemented with weight of evidence. As such, the State's methodology for the relative reduction comparison consisted of comparing the new MOBILE6 inventories with the previously approved (67 FR 5152) MOBILE5 inventories for the Northern New Jersey NAA and the Trenton NAA to determine if attainment will still be predicted by the established attainment dates. Specifically, the State calculated the relative reductions (expressed as percent reductions) in ozone precursors between the 1996 base year and attainment year inventory, both MOBILE5-based. These percent reductions were then compared to the percent reductions between the revised MOBILE6-based 1996 base year and attainment year inventories. It should be noted that the latest planning assumptions were used in modeling for the State's relative reduction comparison.

³ Memorandum, “Policy Guidance on the Use of MOBILE6 for SIP development and Transportation Conformity,” issued January 18, 2002. A copy of this memorandum can be found on EPA's Web site at http://www.epa.gov/otaq/transp/traqconf.htm.

⁴ Memorandum, “Clarification of Policy Guidance for MOBILE6 SIPs in Mid-course Review Areas,” issued February 12, 2003. A copy of this memorandum can be found on EPA's Web site at http://www.epa.gov/otaq/transp/traqconf.htm.

New Jersey's relative reduction comparison shows that for the Northern New Jersey NAA the percent reduction of VOC and NOX emissions achieved in the revised MOBILE6 inventories is higher than the percent reduction calculated with MOBILE5, thus the required emission reductions needed to attain the 1-hour ozone NAAQS are achieved, and the SIP continues to demonstrate attainment. For the Trenton NAA, the percent reduction of VOC emissions achieved in the revised MOBILE6 inventories is higher than the percent reduction calculated with MOBILE5, however the percent reduction of NOX emissions achieved in the revised MOBILE6 inventories is lower than the percent reduction calculated with MOBILE5, thus a slight NOX shortfall is indicated. New Jersey has previously demonstrated in its Phase I Ozone SIP, approved by EPA on April 23, 1999 (64 FR 19913), that VOC or NOX emission reductions are equally valuable towards attaining the 1-hour ozone standard. Therefore, New Jersey substituted excess VOC emission reductions for NOX emission reductions, as allowed for under Section 182(c)(2)(C) of the Clean Air Act. To make such an equivalency demonstration, the State converted the percentage changes for VOC and NOX to +2.46 and −1.44 tons per day, respectively. Based on the emission inventories, New Jersey has determined for the Trenton NAA that approximately 1.04 tons of VOC emissions equals 1 ton of NOX emissions, as the emissions relate to their potential to form ozone. Consistent with EPA's policy on substitution of ozone precursor emission reductions, New Jersey increased the NOX reductions and decreased VOC reductions by their equivalent amounts, resulting in offsetting effects with respect to ozone formation. Thus, the required emission reductions needed to attain the 1-hour ozone NAAQS are achieved for the Trenton NAA, and the SIP continues to demonstrate attainment.

EPA's policy guidance also required the State to consider whether growth and control strategy assumptions for non-motor vehicle sources (i.e., point, area, and non-road mobile sources) were still accurate at the time the January 31, 2003 submittal was developed. New Jersey reviewed the growth and control strategy assumptions for non-motor vehicle sources, and concluded that these assumptions continue to be valid for the 1-hour Ozone Attainment Demonstration.

New Jersey's January 31, 2003 submittal satisfies the conditions outlined in EPA's MOBILE6 Policy guidance, and demonstrates that the new levels of motor vehicle emissions calculated using MOBILE6 continue to support achievement of the projected attainment of the 1-Hour Ozone NAAQS by the attainment dates of 2007 for the Northern New Jersey NAA and 2005 for the Trenton NAA.

6. Are New Jersey's Motor Vehicle Emissions Budgets Approvable?

Table 2 below summarizes New Jersey's revised budgets contained in the January 31, 2003 submittal. These budgets were developed using the latest planning assumptions, including 1999 vehicle registration data, VMT, speeds, fleet mix, and SIP control measures. For the South Jersey Transportation Planning Organization (SJTPO) and Delaware Valley Regional Planning Commission (DVRPC) the 2005 budgets are revised attainment year budgets. For the North Jersey Transportation Planning Authority (NJTPA) the 2005 budgets are revised budgets based on the Reasonable Further Progress (RFP) Plans, while the 2007 budgets are revised attainment year budgets. EPA is proposing to approve all of these budgets.

Concurrent with this notice of proposed rulemaking, EPA is completing the adequacy review process on the revised 2005 attainment budgets for SJTPO and DVRPC and the revised 2007 attainment budgets for NJTPA. EPA began the 30-day comment period for these budgets on March 14, 2003 by posting a notice on EPA's conformity Web site: http://www.epa.gov/otaq/ transp/conform/adequacy.htm. In accordance with the “Conformity Guidance on Implementation of March 2, 1999 Conformity Court Decision,” ⁵ EPA will issue its adequacy determination, including a response to comments, by posting it on the conformity Web site, and will also subsequently announce the determination in the Federal Register. The revised 2005 and 2007 attainment budgets will apply for conformity purposes once EPA issues its adequacy determination. It should be noted that EPA's adequacy determination will only be for the revised attainment year budgets, and not for the revised RFP budgets. This is consistent with EPA's approval of the previous MOBILE5 budgets (67 FR 5152), which limited the adequacy process to only the revised attainment year budgets. The revised 2005 RFP budgets for NJTPA will not be available for use in conformity determinations until after EPA publishes a final rulemaking on the January 31, 2003 submittal.

⁵ Memorandum, “Conformity Guidance on Implementation of March 2, 1999 Conformity Court Decision,” issued May 14, 1999. A copy of this memorandum can be found on EPA's Web site at http://www.epa.gov/otaq/transp/traqconf.htm.

Table 2.—New Jersey Motor Vehicle Emissions Budgets
Transportation planning area | 2005: VOC (tpd) | 2005: NOX (tpd) | 2007: VOC (tpd) | NOX (tpd)
North Jersey Transportation Planning Authority (NJTPA) | 161.97 | 250.05 | 138.77 | 197.19
South Jersey Transportation Planning Organization (SJTPO) | 22.12 | 36.36 | ¹ | ¹
Delaware Valley Regional Planning Commission (DVRPC) | 42.99 | 63.44 | ¹ | ¹
¹ Not applicable, since the attainment year is 2005.

Also included as part of the January 31, 2003 submittal, New Jersey is proposing to update the general conformity emissions budgets for the McGuire Air Force Base, previously approved by EPA in the February 4, 2002 Federal Register (67 FR 5152). Due to McGuire Air Force Base's vital status in the national defense and need to accommodate additional aircraft in 2005, New Jersey is proposing a change to the 2005 emissions budgets. The year 2005 NOX budget is being increased by 200 tons per year and the VOC budget is being decreased by 208 tons per year. New Jersey is proposing this change consistent with EPA's policy on substitution of ozone precursor emission reductions. Based on the emission inventories, New Jersey has determined for the Trenton NAA that approximately 1 ton per year of NOX emissions equals 1.04 tons per year of VOC emissions, as the emissions relate to their potential to form ozone. Thus, increasing NOX and decreasing VOC by their equivalent amounts results in offsetting effects with respect to ozone formation. Table 3 below summarizes the revised general conformity budgets. EPA is proposing to approve the revised 2005 general conformity emissions budgets.

Table 3.—McGuire Air Force Base General Conformity Emissions Budgets
| Previously approved budgets: VOC tons/year | Previously approved budgets: NOX tons/year | New budgets: VOC tons/year | New budgets: NOX tons/year
1990 Baseline | 1,112 | 1,038 | 1,112 | 1,038
1996 | 1,186 | 1,107 | 1,186 | 1,107
1999 | 1,223 | 1,142 | 1,223 | 1,142
2002 | 1,405 | 875 | 1,405 | 875
2005¹ | 1,406 | 884 | 1,198 | 1,084
¹ 2005 budgets updated such that the increase in NOX is offset by a decrease in VOC, resulting in no expected net increase in ozone formation.

7. When Will New Jersey Submit Its Mid-Course Review?

On September 12, 2001, New Jersey submitted a mid-course review analysis which showed a continued downward trend in both the number of violations of the 1-hour ozone standard and the measured ozone concentrations. EPA found, however, that several more years of monitored data and implementation of the Regional NOX Program were needed before a true mid-course review of the attainment demonstration could be made. Therefore, on February 4, 2002 (67 FR 5152), EPA approved New Jersey's further commitment to perform a mid-course review and submit the results to EPA by December 31, 2003.

Due to challenges by upwind states of EPA's Regional NOX Program, the benefit of these upwind NOX reductions will not be fully realized until late 2003. Therefore, EPA has allowed states to revise their mid-course commitments to provide for the review no later than December 31, 2004. In order to be consistent with surrounding states and to include the benefit of the Regional NOX Program in its mid-course review, New Jersey revised its commitment to perform a mid-course review to December 31, 2004. EPA proposes to approve this revised commitment.

8. Summary of Conclusions and Proposed Action

This revision is being proposed under a procedure called parallel processing, whereby EPA proposes rulemaking action concurrently with the State's procedures for amending its regulations. If the proposed revision is substantially changed in areas other than those identified in this document, EPA will evaluate those changes and may publish another notice of proposed rulemaking. If no substantial changes are made other than those areas cited in this document, EPA will publish a final rulemaking on the revisions. The final rulemaking action by EPA will occur only after the SIP revision has been adopted by New Jersey and submitted formally to EPA for incorporation into the SIP.

EPA is proposing to approve New Jersey's proposed SIP revision submitted on January 31, 2003. This submittal revises New Jersey's 1996, 2005, and 2007 motor vehicle emission inventories and 2005 and 2007 motor vehicle emissions budgets using MOBILE6, modifies the planned date to complete the State's mid-course review to December 31, 2004, and updates the general conformity emissions budgets for McGuire Air Force Base. New Jersey has demonstrated that its revised 1-Hour Attainment Demonstration SIP for the Northern New Jersey NAA and the Trenton NAA continues to demonstrate attainment with the revised MOBILE6 inventories.

9. Statutory and Executive Order Reviews

Under Executive Order 12866 (58 FR 51735, October 4, 1993), this proposed action is not a “significant regulatory action” and therefore is not subject to review by the Office of Management and Budget. For this reason, this action is also not subject to Executive Order 13211, “Actions Concerning Regulations That Significantly Affect Energy Supply, Distribution, or Use” (66 FR 28355, May 22, 2001). This proposed action merely proposes to approve state law as meeting Federal requirements and imposes no additional requirements beyond those imposed by state law. Accordingly, the Administrator certifies that this proposed rule will not have a significant economic impact on a substantial number of small entities under the Regulatory Flexibility Act (5 U.S.C. 601 et seq.). Because this rule proposes to approve pre-existing requirements under state law and does not impose any additional enforceable duty beyond that required by state law, it does not contain any unfunded mandate or significantly or uniquely affect small governments, as described in the Unfunded Mandates Reform Act of 1995 (Public Law 104-4).

This proposed rule also does not have tribal implications because it will not have a substantial direct effect on one or more Indian tribes, on the relationship between the Federal Government and Indian tribes, or on the distribution of power and responsibilities between the Federal Government and Indian tribes, as specified by Executive Order 13175 (65 FR 67249, November 9, 2000). This action also does not have Federalism implications because it does not have substantial direct effects on the States, on the relationship between the national government and the States, or on the distribution of power and responsibilities among the various levels of government, as specified in Executive Order 13132 (64 FR 43255, August 10, 1999). This action merely proposes to approve a state rule implementing a Federal standard, and does not alter the relationship or the distribution of power and responsibilities established in the Clean Air Act. This proposed rule also is not subject to Executive Order 13045 “Protection of Children from Environmental Health Risks and Safety Risks” (62 FR 19885, April 23, 1997), because it is not economically significant.

In reviewing SIP submissions, EPA's role is to approve state choices, provided that they meet the criteria of the Clean Air Act. In this context, in the absence of a prior existing requirement for the State to use voluntary consensus standards (VCS), EPA has no authority to disapprove a SIP submission for failure to use VCS. It would thus be inconsistent with applicable law for EPA, when it reviews a SIP submission, to use VCS in place of a SIP submission that otherwise satisfies the provisions of the Clean Air Act. Thus, the requirements of section 12(d) of the National Technology Transfer and Advancement Act of 1995 (15 U.S.C. 272 note) do not apply. This proposed rule does not impose an information collection burden under the provisions of the Paperwork Reduction Act of 1995 (44 U.S.C. 3501 et seq.).

List of Subjects in 40 CFR Part 52

Environmental protection, Air pollution control, Hydrocarbons, Intergovernmental relations, Oxides of Nitrogen, Ozone, Reporting and recordkeeping requirements, Volatile organic compounds.

Authority: 42 U.S.C. 7401 et seq.

Dated: April 22, 2003.
Jane M. Kenny,
Regional Administrator, Region 2.

[FR Doc. 03-10999 Filed 5-2-03; 8:45 am]

BILLING CODE 6560-50-P